DEPARTMENT OF THE INTERIOR

National Park Service

[NPS-WASO-NRNHL-DTS#-30459; PPWOCRADI0, PCU00RP14.R50000]

National Register of Historic Places; Notification of Pending Nominations and Related Actions

AGENCY: National Park Service, Interior.

ACTION: Notice.

SUMMARY: The National Park Service is soliciting electronic comments on the significance of properties nominated before June 13, 2020, for listing or related actions in the National Register of Historic Places.

DATES: Comments should be submitted electronically by July 17, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before June 13, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Monroe County

Vanity Fair Park, 271 Park Dr., Monroeville, SG100005354

Montgomery County

Bricklayers Hall, 530 South Union St., Montgomery, SG100005355

Tuscaloosa County

Alabama Book Store, The, 1015 University Blvd., Tuscaloosa, SG100005356

COLORADO

Denver County

Fountain Inn (Commercial Resources of the East Colfax Avenue Corridor MPS), 3015 East Colfax Ave., Denver, MP100005378

Jefferson County

Fort, The (Boundary Increase), 19192 CO 8, Morrison vicinity, BC100005379

Montrose County

Montrose Fruit & Produce Association Building, 39 West Main St., Montrose, SG100005380

FLORIDA

Clay County

Gold Head Branch State Park (Florida's New Deal Resources MPS), 6239 FL 21, Keystone Heights vicinity, MP100005381

Flagler County

Espanola Schoolhouse (Florida's Historic Black Public Schools MPS), 98 Knox Jones Ave., Bunnell, MP100005382

Leon County

Camp House, 2307 Ellicott Dr., Tallahassee, SG100005383

IDAHO

Ada County

Robbins, Corilla J. and Orlando, House, 512 West Idaho St., Boise, SG100005362

Bingham County

Just, Nels and Emma, House, 995 Reid Rd., Firth, SG100005363

Jerome County

Greenwood School (Public School Buildings in Idaho MPS), 2398 East 990 South, Hazelton, MP100005364

MINNESOTA

Ramsey County

United States Bedding Company, 550 Vandalia St., St. Paul, SG100005358

Winona County

Winona Athletic Club, 773 East 5th St., Winona, SG100005359

OHIO

Greene County

Tawawa Chimney Corner, 1198 Brush Row Rd., Wilberforce, SG100005361

PENNSYLVANIA

Allegheny County

Crawford Grill No. 2, 2141 Wylie Ave., Pittsburgh, SG100005373

Cumberland County

Mount Tabor AME Zion Church and Cemetery, (African American Churches and Cemeteries in Pennsylvania, c. 1644-c. 1970 MPS), Cedar St., Mount Holly Springs, MP100005377

Northampton County

Wagner, John and Family Farmstead (Agricultural Resources of Pennsylvania, c. 1700-1960 MPS), 1789 Meadows Rd., Lower Saucon Township, MP100005357

TENNESSEE

Hamilton County

Dixie Mercerizing Company, 951 South Watkins St., Chattanooga, SG100005374

Hardin County

Arch Bridge, Arch Loop, Olive Hill, SG100005375

Montgomery County

Sulphur Fork Bridge, 3300 Old Clarksville Hwy. over the Sulphur Fork of the Red River. Adams vicinity, SG100005366

Robertson County

Sulphur Fork Bridge, 3300 Old Clarksville Hwy. over the Sulphur Fork of the Red River. Adams vicinity, SG100005366

Trousdale County

Ward School, 113 Hall St., Hartsville, SG100005367

Van Buren County

Higginbotham Turnpike, Pleasant Hill Cemetery Rd., Spencer vicinity, SG100005368

Warren County

Higginbotham Turnpike, Pleasant Hill Cemetery Rd., Spencer vicinity, SG100005368

Wayne County

Wayne County Courthouse, 100 Court Cir., Waynesboro, SG100005369

TEXAS

Tarrant County

Fair Building, 307 West 7th St., Fort Worth, SG100005350

WISCONSIN

Bayfield County

Shaw Point Historic District, Sand Island, Apostle Islands NL, Bayfield vicinity, SG100005371

A request for removal has been made for the following resource:

TENNESSEE

Williamson County

Morton, George W., House, (Williamson County MRA), U.S. Alt. 41½ mi. North of Sunset Rd., Nolensville vicinity, OT88000337

Additional documentation has been received for the following resource:

VIRGINIA

Richmond Independent City, Scott House (Additional Documentation), 909 West Franklin St., Richmond, AD05001545

Nominations submitted by Federal Preservation Officers:

The State Historic Preservation Officer reviewed the following nominations and responded to the Federal Preservation Officer within 45 days of receipt of the nominations and supports listing the properties in the National Register of Historic Places.

GEORGIA

Glynn County

Fort Frederica National Monument (Boundary Increase), Address Restricted, St. Simons Island vicinity, BC100005351

Fort Frederica National Monument (Additional Documentation), 12 mi, North of Brunswick, Brunswick vicinity, AD66000065

Authority: Section 60.13 of 36 CFR part 60.

Dated: June 16, 2020.
Sherry A. Frear,
Chief, National Register of Historic Places/National Historic Landmarks Program.

[FR Doc. 2020-14256 Filed 7-1-20; 8:45 am]

BILLING CODE 4312-52-P